DEPARTMENT OF TRANSPORTATION

Federal Aviation Administration

Advisory Circular 120-79A, Developing and Implementing an Air Carrier Continuing Analysis and Surveillance System

AGENCY: Federal Aviation Administration (FAA) DOT.

ACTION: Notice of Availability.

SUMMARY: This notice announces the issuance and availability of Advisory Circular (AC) 120-79A, “Developing and Implementing an Air Carrier Continuing Analysis and Surveillance System”. This new advisory circular (AC) updates AC 120-79 originally issued on April 21, 2003. This new AC provides information on methods of developing and implementing a Continuing Analysis and Surveillance System (CASS) required for commercial operators and air carriers certificated under Title 14 of the Code of Federal Regulations (14 CFR) part 119 and conducting operations under either 14 CFR part 121 or 135. A CASS is a system that air carriers and commercial operators use to monitor, analyze, and optimize the performance and effectiveness of their air carrier maintenance programs.

DATES: The Office of the Director, Flight Standards Service, AFS-1 issued Advisory Circular 120-79A, Developing and Implementing an Air Carrier Continuing Analysis and Surveillance System on September 7, 2010.

FOR FURTHER INFORMATION CONTACT: Russell S. Unangst, Jr., Technical Advisor, Airworthiness, AFS-305, Federal Aviation Administration, Aircraft Maintenance Division, Flight Standards Service, 125B Summer Lake Drive, West Columbia, SC 29170; telephone (803) 451-2666; facsimile (803) 253-3999, e-mail russell.unangst@faa.gov.

SUPPLEMENTARY INFORMATION:

How To Obtain Copies: You can read or download this AC from the Internet at http://rgl.faa.gov or http://www.faa.gov/regulations_policies/advisory_circulars/ under the “Advisory Circular” hyperlink. In approximately 6-8 weeks from the date of issuance, you may obtain paper copies of this AC from the U.S. Department of Transportation, Subsequent Distribution Office, SVC-121.23, Ardmore East Business Center, 3341Q 75th Avenue, Landover, MD 20785. Telephone: 301-322-4961. Fax: 301-386-5394.

You can also order paper copies of this publication from DOT's On Line Publications Web site at http://isddc.dot.gov.

Issued in Washington, DC on September 24, 2010.
Steven W. Douglas,
Deputy Division Manager, Aircraft Maintenance Division, Flight Standards Service.

[FR Doc. 2010-24542 Filed 9-29-10; 8:45 am]

BILLING CODE P